DEPARTMENT OF COMMERCE

International Trade Administration

University of California, Davis; Notice of Decision on Application for Duty-Free Entry of Scientific Instrument

This decision is made pursuant to section 6(c) of the Educational, Scientific, and Cultural Materials Importation Act of 1966 (Pub. L. 89-651, 80 Stat. 897; 15 CFR part 301). Related records can be viewed between 8:30 a.m. and 5:00 p.m. in Room 4211, U.S. Department of Commerce, 14th and Constitution Avenue, NW., Washington, DC.

Docket Number: 01-004. Applicant: University of California, Davis, CA 95616-8711. Instrument: Multielectrode Neuronal Manipulator, Model Eckhorn-7. Manufacturer: UWE Thomas Recording, Germany. Intended Use: See notice at 66 FR 9557, February 8, 2001.

Comments: None received. Decision: Approved. No instrument of equivalent scientific value to the foreign instrument, for such purposes as it is intended to be used, is being manufactured in the United States. Reasons: The foreign instrument provides a precise positioning system which can insert up to 7 very fine glass-coated microelectrodes (diameter to 25 μm) in 1 μm steps to selected positions through the dura into the brain of a test animal. The National Institutes of Health advises in its memorandum of March 12, 2001 that (1) this capability is pertinent to the applicant's intended purpose and (2) it knows of no domestic instrument or apparatus of equivalent scientific value to the foreign instrument for the applicant's intended use.

We know of no other instrument or apparatus of equivalent scientific value to the foreign instrument which is being manufactured in the United States.

Gerald A. Zerdy,
Program Manager, Statutory Import Programs Staff.

[FR Doc. 01-8937 Filed 4-10-01; 8:45 am]

BILLING CODE 3510-DS-P